DEPARTMENT OF HEALTH AND HUMAN SERVICES

Centers for Disease Control and Prevention

[30Day-11-0776]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Economic Analysis of the National Breast and Cervical Cancer Early Detection Program—Revision—Division of Cancer Prevention and Control, National Center for Chronic Disease Prevention and Health Promotion (NCCDPHP), Centers for Disease Control and Prevention, (CDC).

Background and Brief Description

CDC administers the National Breast and Cervical Cancer Early Detection Program (NBCCEDP), the largest organized cancer screening program in the United States. The NBCCEDP provides critical breast and cervical cancer screening services to uninsured and underserved low-income women in all 50 states, the District of Columbia, five U.S. territories, and 12 American Indian/Alaska Native organizations. The program provides breast and cervical cancer screening for eligible women who participate in the program as well as diagnostic procedures for women who have abnormal findings. During the past decade, the NBCCEDP has provided over 9.2 million breast and cervical cancer screening and diagnostic exams to over 3.7 million low-income women. Those who are diagnosed with cancer through the program are eligible for Medicaid coverage through the Breast and Cervical Cancer Prevention and Treatment Act passed by Congress in 2000.

In 2008, CDC received OMB approval to collect one year of activity-based economic cost data from NBCCEDP grantees. In 2009, CDC received OMB approval to collect two additional years of cost data for FY09 and FY10 (OMB No. 0920-0776, exp. 03/31/2011). Respondents are the 68 programs participating in the NBCCEDP. Information is collected electronically through a web-based Cost Assessment Tool (CAT) and includes: Staff and consultant salaries, screening costs, contracts and material costs, provider payments, in-kind contributions, administrative costs, allocation of funds and staff time devoted to specific program activities.

CDC requests OMB approval for a six-month extension of the current approval period in order to complete the data collection. Based on our experience with previous cycles of data collection, 20 grantees (30% of the total 68 grantees) will not be able to meet the current data collection deadline of 3/31/2011. These programs will complete their fiscal year (FY) closeout process in April or May 2011. As a result, these programs will not be prepared to submit data to CDC until their FY is complete and records have been reconciled. The requested six-month extension period will provide the time they need to complete their FY10 closeout and conduct data quality checks before submitting information to CDC. The requested six-month extension will improve the quality and completeness of information used for planned data analysis, and ensure CDC's authority to receive late submissions.

The information is being collected to support activity-based analysis of the costs and cost-effectiveness of the NBCCEDP. The information will be used to assess the costs of various program components, identify factors that impact average cost, perform cost-effectiveness analysis, and to develop a resource allocation tool for ensuring the most appropriate use of limited program resources. All information will be collected electronically.

NBCCEDP grantees currently report information on screening and diagnosis volumes (the effectiveness measures for the program) as part of the Minimum Data Elements (MDE) for the NBCCEDP (OMB 0920-0571, exp. 11/30/2012). Cost information to be collected through the CAT will complement information currently collected through the MDE project.

There are no costs to respondents other than their time. The total estimated annualized burden hours are 440.

Estimated Annualized Burden Hours
Type of respondents | Number of respondents | Number of responses per respondent | Average burden (in hrs)
NBCCEDP grantee | 20 | 1 | 22

Catina Conner,
Acting Reports Clearance Officer, Centers for Disease Control and Prevention.

[FR Doc. 2010-31981 Filed 12-20-10; 8:45 am]

BILLING CODE 4163-18-P